FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register . Copies of agreements are available through the Commission's Web site (http://www.fmc.gov) or contacting the Office of Agreements at (202)-523-5793 or tradeanalysis@fmc.gov.

Agreement No.: 011928-004.

Title: Maersk Line/HLAG Slot Charter Agreement.

Parties: A.P. Moller-Maersk A/S and Hapag-Lloyd AG.

Filing Party: Wayne R. Rohde, Esq.; Sher & Blackwell LLP; 1850 M Street NW., Suite 900; Washington, DC 20036.

Synopsis: The amendment adds language to the agreement regarding responsibility for certain types of costs and extends the duration of the agreement.

Agreement No.: 011982-003.

Title: Evergreen Line Joint Service Agreement.

Parties: Evergreen Marine (Hong Kong) Ltd.; Evergreen Marine Corp. (Taiwan) Ltd.; Evergreen Marine (UK) Ltd.; and Italia Marittima S.P.A.

Filing Party: Paul M. Keane, Esq.; Cichanowicz, Callan, Keane, Vengrow and Textor LLP; 61 Broadway, Suite 3000; New York, NY 10006-2802.

Synopsis: The amendment would add Evergreen Marine (Singapore) as a party to the agreement.

By Order of the Federal Maritime Commission.
Dated: March 13, 2009.
Karen V. Gregory,
Secretary.

[FR Doc. E9-5849 Filed 3-17-09; 8:45 am]

BILLING CODE 6730-01-P